DEPARTMENT OF LABOR

Employment and Training Administration

[TA-W-39,470]

Clestra Hauserman, Inc., Solon, OH; Notice of Termination of Investigation

Pursuant to Section 221 of the Trade Act of 1974, an investigation was initiated on June 18, 2001, in response to a worker petition which was filed by a company official on behalf of workers at Clestra Hauserman, Inc., Solon, Ohio.

The petitioner has requested that the petition be withdrawn. Consequently further investigation in this case would serve no purpose, and the investigation has been terminated.

Signed in Washington, DC, this 25th day of June, 2001.
Edward A. Tomchick,
Certifying Officer, Division of Trade Adjustment Assistance.

[FR Doc. 01-16849 Filed 7-3-01; 8:45 am]

BILLING CODE 4510-30-M